DEPARTMENT OF THE INTERIOR

National Park Service

[NPS-IR1-NERO-32342; PPNENERON3.PPMPSPD1Y.S00000]

National Wild and Scenic Rivers System; Musconetcong Wild and Scenic River; Notice of Additional Segment Designation

AGENCY: National Park Service, Interior.

ACTION: Notice.

SUMMARY: The Assistant Secretary for Fish and Wildlife and Parks, exercising the delegated authority of the Secretary of the Interior, finds that the conditions for designation of the 4.3-mile segment C of the Musconetcong River within Pohatcong Township, Warren County, New Jersey under the National Wild and Scenic Rivers Act have been met. Accordingly, the Assistant Secretary hereby provides notice of her designation of this segment as a recreational segment, segment C of the Musconetcong Wild and Scenic River.

ADDRESSES: Musconetcong Wild and Scenic River information, including the river's management plan and designation legislation, are available online at www.rivers.gov, or www.musconetcong.org.

FOR FURTHER INFORMATION CONTACT: Jamie Fosburgh, Partnership Wild and Scenic Rivers, Interior Region 1, National Park Service; email: jamie_fosburgh@nps.gov, telephone: (617) 314-2810.

SUPPLEMENTARY INFORMATION: On July 18, 2018, The Pohatcong Township Council voted unanimously by resolution to demonstrate its support for adding segment C to the Musconetcong Wild and Scenic River designation (16 U.S.C. 1274(a)). The resolution satisfies the local support suitability requirement pursuant to Public Law 109-452, Section 5(d), which authorizes the Secretary of the Interior to add the additional segment upon a finding that there is adequate local support for designating the additional river segment and upon publication of notice in the Federal Register. Designating river segment C will add 4.3 miles to the river's designation, for a total of 28.5 miles. The Musconetcong River was designated into the National Wild and Scenic Rivers System on December 22, 2006. The segment will be managed as a recreational river, consistent with the Musconetcong River Management Plan and the provisions of Public Law 109-452.

Shannon Estenoz,
Assistant Secretary for Fish and Wildlife and Parks.

[FR Doc. 2022-11978 Filed 6-2-22; 8:45 am]

BILLING CODE 4312-52-P